DEPARTMENT OF COMMERCE

International Trade Administration

(A-570-501)

Natural Bristle Paint Brushes and Brush Heads from the People's Republic of China: Final Results of the Expedited Sunset Review of the Antidumping Duty Order

AGENCY: Import Administration, International Trade Administration, Department of Commerce.

SUMMARY: On November 2, 2009, the Department of Commerce (“the Department”) initiated a sunset review of the antidumping duty order on natural bristle paint brushes and brush heads from the People's Republic of China (“PRC”) pursuant to section 751(c) of the Tariff Act of 1930, as amended (“the Act”). See Initiation of Five-year (“Sunset”) Review, 74 FR 56593 (November 2, 2009) (“Sunset Initiation”); see also Antidumping Duty Order; Natural Bristle Paint Brushes and Brush Heads From the People's Republic of China, 51 FR 5580 (February 14, 1986) and Amended Antidumping Duty Order; Natural Bristle Paint Brushes and Brush Heads From the People's Republic of China, 51 FR 8342 (March 11, 1986) (“Order”). Based on the notice of intent to participate and adequate response filed by the domestic interested parties, and the lack of response from any respondent interested party, the Department conducted an expedited (120 day) sunset review of the Order pursuant to section 751(c)(3)(B) of the Act and 19 CFR 351.218(e)(1)(ii)(C)(2). As a result of this sunset review, the Department finds that revocation of the Order would likely lead to continuation or recurrence of dumping, at the levels indicated in the “Final Results of Sunset Review” section of this notice, infra.

EFFECTIVE DATE: March 22, 2010.

FOR FURTHER INFORMATION CONTACT: Jennifer Moats, AD/CVD Operations, Import Administration, International Trade Administration, U.S. Department of Commerce, 14th Street and Constitution Avenue, NW, Washington, DC 20230; telephone: (202) 482-5047.

SUPPLEMENTARY INFORMATION: On November 2, 2009, the Department published the notice of initiation of the third sunset review of the order on natural bristle paint brushes and brush heads pursuant to section 751(c) of the Act. See Sunset Initiation, 74 FR 56593. On November 17, 2009, the Department received a timely and complete notice of intent to participate in the sunset review from the Paint Applicators Trade Action Coalition (“PATAC”), a trade association whose members are the Wooster Brush Company, True Value Manufacturing, and Elder and Jenks, Inc., as domestic interested parties, pursuant to 19 CFR 351.218(d)(1). On December 2, 2009, pursuant to 19 CFR 351.218(d)(3), PATAC filed a timely and complete substantive response within 30 days after the date of publication of the Sunset Initiation. The Department did not receive a substantive response from any respondent interested party in the sunset review. As a result, pursuant to section 751(c)(3)(B) of the Act and 19 CFR 351.218(e)(1)(ii)(C)(2), the Department conducted an expedited sunset review of the Order.

Scope of the Order:

The merchandise covered by the order are natural bristle paintbrushes and brush heads from the PRC. Excluded from the order are paint brushes and brush heads with a blend of 40 percent natural bristles and 60 percent synthetic filaments. The merchandise under review is currently classifiable under item 9603.40.40.40 of the Harmonized Tariff Schedule of the United States (“HTSUS”). Although the HTSUS subheading is provided for convenience and customs purposes, the Department's written description of the scope of the merchandise is dispositive.

Analysis of Comments Received:

A complete discussion of all issues raised in this sunset review is addressed in the accompanying Issues and Decision Memorandum, which is hereby adopted by this notice. See “Issues and Decision Memorandum for the Final Results in the Expedited Sunset Review of the Antidumping Duty Order on Natural Bristle Paint Brushes and Brush Heads from the People's Republic of China,” from John M. Andersen, Acting Deputy Assistant Secretary for Antidumping and Countervailing Duty Operations, to Ronald K. Lorentzen, Deputy Assistant Secretary for Import Administration, dated concurrent with this notice (“I&D Memo”). The issues discussed in the accompanying I&D Memo include the likelihood of continuation or recurrence of dumping and the magnitude of the dumping margin likely to prevail if the Order was revoked. Parties can obtain a public copy of the I&D Memo on file in the Central Records Unit, room 1117, of the main Commerce building. In addition, a complete public version of the I&D Memo can be accessed directly on the Web at http://ia.ita.doc.gov/frn. The paper copy and electronic version of the I&D Memo are identical in content.

Final Results of Review:

The Department determines that revocation of the order on natural bristle paint brushes and brush heads would likely lead to continuation or recurrence of dumping at the rates listed below:

Manufacturers/Exporters/Producers | Weighted-Average Margin (Percent)
Hebei Animal By-Products Import/Export Corp. | 351.92
Hunan Provincial Native Produce and Animal | 351.92
By-Products Import/Export Corp.
Peace Target, Inc. | 351.92
PRC-Wide Entity | 351.92

Notification Regarding Administrative Protective Order:

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: March 9, 2010.
Ronald K. Lorentzen,
Deputy Assistant Secretary for Import Administration.

[FR Doc. 2010-6298 Filed 3-19-10; 8:45 am]

BILLING CODE 3510-DS-S